DEPARTMENT OF HOUSING AND URBAN DEVELOPMENT

[Docket No. FR-4759-FA-25]

Announcement of Funding Award—FY 2000, Lead-Based Paint Hazard Control; President and Fellows of Harvard College of Boston, MA

AGENCY: Office of the Secretary—Office of Healthy Homes and Lead Hazard Control.

ACTION: Announcement of funding award.

SUMMARY: In accordance with section 102(a)(4)(C) of the Department of Housing and Urban Development Reform Act of 1989, this announcement notifies the public of a funding decision made by the Department to the National Academy of Sciences of Washington, DC President and Fellows of Harvard College of Boston, MA. This announcement contains the name and address of the awardee and the amount of the award.

FOR FURTHER INFORMATION CONTACT: Peter J. Ashley, Department of Housing and Urban Development, 451 Seventh Street, SW., Washington, DC, 20410, telephone (202) 755-1785, ext. 115. Hearing- or speech-impaired individuals may access this number by calling the Federal Information Relay Service TTY at 1-800-877-8339.

SUPPLEMENTARY INFORMATION: The Health Homes Demonstration grant for the President and Fellows of Harvard College of Boston, MA was issued pursuant to Pub. L. 102-550, Title X, Residential Lead-Based Paint Hazard Reduction Act of 1992.

This notice announces the award of an additional $202,281.00 for a total award of $1,200,000 to the President and Fellows of Harvard College of Boston, MA, which will be used to provide financial support and technical assistance to support asthma health outcomes and environmental sampling to the Winter of 2003.

The Catalog of Federal Domestic Assistance number for this program is 14,900.

In accordance with section 102(a)(4)(C) of the Department of Housing and Urban Development Reform Act of 1989 (103 Stat. 1987, 42 U.S.C. 3545), the Department is publishing the name, address, and amount of the award as follows:

President and Fellows of Harvard College, Harvard School of Public Health, Office For Sponsored Research, 677 Huntington Avenue, Harvard, MA 02115.

Total Amount of Grant: $1,200,000.

Dated: December 3, 2003.
Joseph F. Smith,
Deputy Director, Office of Healthy Homes and Lead Hazard Control.

[FR Doc. 03-31913 Filed 12-29-03; 8:45 am]

BILLING CODE 4210-70-P